TENNESSEE VALLEY AUTHORITY

Notice of Meeting; Sunshine Act

AGENCY HOLDING THE MEETING: Tennessee Valley Authority (Meeting No. 0602).

TIME AND DATE: 2 p.m. CDT, May 18, 2006, Hopkinsville-Christian County Conference and Convention Center, Hopkinsville, Kentucky.

STATUS: Open.

Agenda

Old Business

Approval of minutes of March 31, 2006, Board Meeting.

New Business

1. Bylaws of the Tennessee Valley Authority.

2. Tennessee Valley Authority Board Committees.

3. Grant of easement to The University of Tennessee at Chattanooga and the Advanced Transportation Technology Institute.

4. Moratorium on further land actions.

5. Delegations of authority to TVA management to handle specified land actions.

6. Report of the Interim Audit Committee.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: May 11, 2006.
Maureen H. Dunn,
General Counsel and Secretary.

[FR Doc. 06-4596 Filed 5-12-06; 11:38 am]

BILLING CODE 8120-08-P